DEPARTMENT OF THE INTERIOR

National Park Service

Resource Protection Study, Environmental Impact Statement, Curecanti National Recreation Area, Colorado

AGENCY: National Park Service, Department of the Interior.

ACTION: Notice of intent to prepare an environmental impact statement for the Resource Protection Study, Curecanti National Recreation Area, Colorado.

SUMMARY: Under the provisions of the National Environmental Policy Act of 1969, the National Park Service is preparing an environmental impact statement for the Resource Protection Study (RPS) for Curecanti National Recreation Area, Colorado. The study will result in recommendations to be made to the Congress, as directed by Public Law 106-76, concerning resource protection and open space on land within and surrounding Curecanti National Recreation Area. The alternatives to be considered include no action, the preferred alternative, and other alternatives that address issues required by P.L. 106-76:

• assess the natural, cultural, recreational and scenic resource value and character of the land within and surrounding the Curecanti National Recreation Area (including open vistas, wildlife habitat, and other public benefits);

• identify practicable alternatives that protect the resource value and character of the land within and surrounding the Curecanti National Recreation Area;

• recommend a variety of economically feasible and viable tools to achieve these purposes;

• estimate the costs of implementing the approaches recommended by the study; and not later than October 21, 2002, submit a report to Congress containing the study's findings and recommendations.

The National Park Service is planning to hold an open house regarding the Curecanti Resource Protection Study between the hours of 3:00 p.m. and 8:00 p.m. on May 24, at the Gunnison County Multi-Purpose Building, Gunnison Fairgrounds, 275 South Spruce, Gunnison, CO. The purpose of the open house is to explain the planning process, to solicit concerns and comments regarding the study, and to identify resource and other issues that need to be resolved. The National Park Service will send individual notices regarding the meeting to adjacent landowners and to other persons and organizations on the park's mailing list, as well as prepare news releases to be distributed to various forms of news media announcing the open house meeting.

Comments

If you wish to submit issues or provide input to this initial phase of the Curecanti RPS, you may do so by any one of several methods. In addition to attending the open house, you may mail comments to Curecanti Resource Protection Plan, Attn: Dave Roberts, 2465 South Townsend Avenue, Montrose, CO 81401. You may also comment via the Internet to dave_roberts@nps.gov. Please submit Internet comments as an ASCII file, avoiding the use of special characters and any form of encryption. Entitle the subject of your Internet message “RPP Comments”. Include your name and home address at the end of your message. If you do not receive a confirmation from the system that we have received your Internet message, contact Dave Roberts at 970-240-5432. Finally, you may hand-deliver your comments to either of two locations: (1) Superintendent's Office, located near Elk Creek Visitor Center, approximately 15 miles west of the City of Gunnison on Hwy. 50; or (2) the Montrose Public Lands Center, 2535 South Townsend Avenue, Montrose, CO. Comments should be received no later than 60 days from the publication of this Notice of Intent.

Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. However, we will not consider anonymous comments. We will make all submissions from organizations of businesses, and from individuals identifying themselves as representatives or officials of organizations or businesses, available for public inspection in their entirety.

FOR FURTHER INFORMATION CONTACT: Dave Roberts, Management Assistant, Black Canyon of the Gunnison National Park and Curecanti National Recreation Area, 2465 South Townsend Avenue, Montrose, CO 81401, Telephone: 970-240-5432, E-Mail: dave_roberts@nps.gov.

Dated: April 19, 2000.
Michael D. Synder,
Acting Director, Intermountain Region.

[FR Doc. 00-10950 Filed 5-2-00; 8:45 am]

BILLING CODE 4310-70-P